DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 12, 2021.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on October 4, 2021.
Donald P. Burger,
Chief, General Approvals and Permits Branch.

Special Permits Data
Application No. | Applicant | Regulation(s) affected | Nature of the special permits thereof
21286-N | BASF Corporation | 180.605(h)(3) | To authorize the requalification of portable tanks without requiring a designated approval agency to witness the testing. (modes 1, 2, 3).
21287-N | Daikin Applied Americas Inc | 173.307(a)(4)(iv) | To authorize the transportation in commerce of refrigerating machines, including dehumidifiers and air conditioners, and components thereof, containing 20 kg (44 pounds) or less of GHS Category 1B or ASHRAE A2L gases in the same manner as A1 gases, per 49 CFR 173.307(a)(4)(iv). (modes 1, 2).
21289-N | Chemtrade Refinery Services Inc | 173.35(e) | To authorize the transportation in commerce of IBCs containing the residue of certain hazardous materials where the closure nearest to the hazardous materials is open.
21292-N | Showa Chemicals of America, Inc | 173.304a(a) | To authorize the transportation in commerce of non-DOT specification cylinders fabricated to a foreign cylinder specification. (mode 1).

[FR Doc. 2021-22155 Filed 10-8-21; 8:45 am]

BILLING CODE 4909-60-P